FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202) 523-5793 or tradeanalysis@fmc.gov.

Agreement No.: 201143-017.

Title: West Coast MTO Agreement.

Parties: APM Terminals Pacific, Ltd.; Eagle Marine Services, Ltd.; Everport Terminal Services, Inc; International Transportation Service, Inc.; LBCT LLC d/b/a Long Beach Container Terminal LLC; Trapac, Inc.; Yusen Terminals LLC; Total Terminals LLC; West Basin Container Terminal LLC; Pacific Maritime Services, L.L.C.; SSAT (Pier A), LLC; and SSA Terminals, LLC.

Filing Party: Wayne R. Rohde, Esq.; Cozen O'Connor; 1200 19th Street NW, Washington, DC 20036.

Synopsis: The amendment reflects changes being made to the current OffPeak Program offered by the West Coast MTO Agreement.

Agreement No.: 201246.

Title: HLAG/SreamLines Slot Charter Agreement.

Parties: Hapag-Lloyd AG and StreamLines N.V.

Filing Party: Wayne R. Rohde, Esq.; Cozen O'Connor; 1200 Nineteenth St. NW, Washington, DC 200036.

Synopsis: The agreement authorizes HLAG to charter space to StreamLines in the trades between the U.S. Atlantic Coast on the one hand and the United Kingdom, Germany, Belgium, the Netherlands, and France on the other hand.

Agreement No.: 201247.

Title: NMCC/Kyowa Space Charter Agreement.

Parties: Nissan Motor Car Carrier Co., Ltd. and Kyowa Shipping Co., Ltd.

Filing Party: Eric C. Jeffrey, Esq.; Nixon Peabody; 401 9th Street NW, Suite 900, Washington, DC 20004.

Synopsis: The agreement authorizes NMCC to charter space to Kyowa on an as needed, as available basis for the carriage of vehicles and other Ro-Ro cargo in the trade from the United States Pacific Coast (including Guam) to Japan.

Dated: April 16, 2018.
Rachel Dickon,
Secretary.

[FR Doc. 2018-08187 Filed 4-18-18; 8:45 am]

BILLING CODE 6731-AA-P